DEPARTMENT OF DEFENSE

Office of the Secretary

Privacy Act of 1974; System of Records

AGENCY: Office of the Secretary, DoD.

ACTION: Notice to alter a system of records.

SUMMARY: The Office of the Secretary proposes to alter a system of records notice to its existing inventory of record systems subject to the Privacy Act of 1974, (5 U.S.C. 552a), as amended.

DATES: This proposed action will be effective without further notice on September 29, 2000 unless comments are received which result in a contrary determination.

ADDRESSES: Send comments to OSD Privacy Act Coordinator, Records Section, Directives and Records Division, Washington Headquarters Services, Correspondence and Directives, 1155 Defense Pentagon, Washington, DC 20301-1155.

FOR FURTHER INFORMATION CONTACT: Mr. David Bosworth at (703) 588-0159.

SUPPLEMENTARY INFORMATION: The Office of the Secretary systems of records notices subject to the Privacy Act of 1974, (5 U.S.C. 552a), as amended, have been published in the Federal Register and are available from the address above.

The proposed system report, as required by 5 U.S.C. 552a(r) of the Privacy Act of 1974, as amended, was submitted on August 21, 2000 to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 24, 2000.
L.M. Bynum,
Alternate OSD Federal Register Liaison Officer, Department of Defense.

DWHS SPM002

SYSTEM NAME:

Pentagon and Federal Building #2 Carpool Locator (February 22, 1993, 58 FR 10227).

CHANGES:

* * * * *

SYSTEM NAME:

Delete entry and replace with ‘Pentagon Parking/National Capital Region Transit Subsidy Program’.

SYSTEM LOCATION:

Delete entry and replace with ‘Primary location: Parking Management Office, Directorate for Real Estate and Facilities, Washington Headquarters Services, Department of Defense, 1155 Defense Pentagon, Washington, DC 20301-1155.

Decentralized location: Department of Transportation, Transportation Administrative Service Center, TASC, Facilities Service Center, Parking Management Office, 400 Seventh Street, SW, Room P2-0327, Washington, DC 20590.’

CATEGORIES OF INDIVIDUALS COVERED BY THE SYSTEM:

Delete entry and replace with ‘All Federal or other personnel currently holding DoD parking permits, participating in DoD carpools, or are otherwise authorized to park at the Pentagon or Federal Office Building No. 2 (FOB2). DoD personnel applying for and/or obtaining a public fare transportation subsidy in the National Capital Region.’

CATEGORIES OF RECORDS IN THE SYSTEM:

Delete entry and replace with ‘Name, Social Security Number, organizational affiliation of the individual, home address, office work number, home zip code, vehicle tag number, applications for a public fare transportation subsidy, and documentation on vehicular compliance with Federal and state environmental and maintenance standards.’

PURPOSE(S):

Delete entry and replace with ‘To administer the Pentagon parking permit program where individuals in a carpool are allocated parking spaces, to manage the DoD National Capital Region Public Transportation Benefit Program involving DoD personnel who are eligible for public fare subsidies, and to operate vehicular environmental compliance and maintenance programs involving certain vehicles which are operating on the Pentagon Reservation or FOB2.’

AUTHORITY FOR MAINTENANCE OF THE SYSTEM:

Delete entry and replace with ‘5 U.S.C. 301, Departmental Regulations; 10 U.S.C. 2674(c)(1); 42 U.S.C. 7418(d); 5 U.S.C. 7905; E.O. 12191; E.O. 13150; and E.O. 9397 (SSN).’

ROUTINE USES OF RECORDS MAINTAINED IN THE SYSTEM, INCLUDING CATEGORIES OF USERS AND THE PURPOSES OF SUCH USES:

Delete entry and replace with ‘In addition to those disclosures generally permitted under 5 U.S.C. 552a(b) of the Privacy Act, these records or information contained therein may specifically be disclosed outside the DoD as a routine use pursuant to 5 U.S.C. 552a(b)(3) as follows:

To other Federal agencies for purposes of administering the DoD National Capital Region Public Transportation Benefit Program and/or verifying the eligibility of individuals to receive a fare subsidy pursuant to a transportation benefit program operated by the DoD or other Federal agencies.

To the Environmental Protection Agency for purposes of certifying that certain vehicles operating on the Pentagon Reservation and FOB2 are in compliance with Clean Air Act requirements.

To state and local governmental authorities for the purpose of reporting vehicular compliance with statutory/regulatory maintenance standards.

The DoD ‘Blanket Routine Uses’ set forth at the beginning of the OSD compilation of systems of records notices apply to this system of records.’

* * * * *

RETRIEVABILITY:

Delete entry and replace with ‘Information is retrieved by individual's name and Social Security Number, parking permit number, vehicle tag number.’

* * * * *

RECORD SOURCE CATEGORIES:

Applications submitted by individuals for private vehicle and carpool parking permits and transit subsidies; applications submitted through DoD component parking control representatives for individual parking permits for cards; information provided by other federal agencies regarding parking permits and fare subsidies; and from periodic certifications and reports regarding fare subsidies.

* * * * *

DWHS SPM002

SYSTEM NAME:

Pentagon Parking/National Capital Region Transit Subsidy Program.

SYSTEM LOCATION:

Primary location: Parking Management Office, Directorate for Real Estate and Facilities, Washington Headquarters Services, Department of Defense, 1155 Defense Pentagon, Washington, DC 20301-1155.

Decentralized location: Department of Transportation, Transportation Administrative Service Center, TASC, Facilities Service Center, Parking Management Office, 400 Seventh Street, SW, Room P2-0327, Washington, DC 20590.

CATEGORIES OF INDIVIDUALS COVERED BY THE SYSTEM:

All Federal or other personnel currently holding DoD parking permits, participating in DoD carpools, or are otherwise authorized to park at the Pentagon or Federal Office Building No. 2 (FOB2). DoD personnel applying for and/or obtaining a public fare transportation subsidy in the National Capital Region.

CATEGORIES OF RECORDS IN THE SYSTEM:

Name, Social Security Number, organizational affiliation of the individual, home address, office work number, home zip code, vehicle tag number, applications for a public fare transportation subsidy, and documentation on vehicular compliance with Federal and state environmental and maintenance standards.

AUTHORITY FOR MAINTENANCE OF THE SYSTEM:

5 U.S.C. 301, Departmental Regulations; 10 U.S.C. 2674(c)(1); 42 U.S.C. 7418(d); 5 U.S.C. 7905; E.O. 12191; E.O. 13150; and E.O. 9397 (SSN).

PURPOSE(S):

To administer the Pentagon parking permit program where individuals in a carpool are allocated parking spaces, to manage the DoD National Capital Reigon Public Transportation Benefit Program involving DoD personnel who are eligible for public fare subsidies, and to operate vehicular environmental compliance and maintenance programs involving certain vehicles which are operating on the Pentagon Reservation or FOB2.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To other Federal agencies for purposes of administering the DoD National Capital Region Public Transportation Benefit Program and/or verifying the eligibility of individuals to receive a fare subsidy pursuant to a transportation benefit program operated by the DoD or other Federal agencies.

To the Environmental Protection Agency for purposes of certifying that certain vehicles operating on the Pentagon Reservation and FOB2 are in compliance with Clean Air Act requirements.

To state and local governmental authorities for the purpose of reporting vehicular compliance with statutory/regulatory maintenance standards.

The DoD ‘Blanket Routine Uses’ set forth at the beginning of the OSD compilation of systems of records notices apply to this system of records.

POLICIES AND PRACTICES FOR STORING, RETRIEVING, ACCESSING, RETAINING, AND DISPOSING OF RECORDS IN THE SYSTEM:

Electronic file storage, computer print-out reports, and paper forms.

RETRIEVABILITY:

Information is retrieved by individual's name and Social Security Number, parking permit number, vehicle tag number.

SAFEGUARDS:

Records are stored in a secured area accessible only to authorized personnel. Records are accessed by the custodian of the record system and by persons responsible for using or servicing the system, who are properly screened and have a need-to-know. Computer hardware is located in controlled areas with access limited to authorized personnel.

RETENTION AND DISPOSAL:

Disposition pending (until NARA has approved the disposition schedule for these records, treat as permanent).

SYSTEM MANAGER(S) AND ADDRESS:

Chief, Defense Protective Service, Real Estate and Facilities Directorate, Washington Headquarters Service, 1155 Defense Pentagon, Washington, DC 20301-1155.

NOTIFICATION PROCEDURE:

Individuals seeking to determine whether information about themselves is contained in this system should address written inquiries to the Chief, Defense Protective Service, Real Estate and Facilities Directorate, Washington Headquarters Services, 1155 Defense Pentagon, Washington, DC 20301-1155.

RECORD ACCESS PROCEDURES:

Individuals seeking access to information about themselves contained in this system should address written inquiries to the Chief, Defense Protective Service, Real Estate and Facilities Directorate, Washington Headquarters Services, 1155 Defense Pentagon, Washington, DC 20301-1155.

Written requests for information should contain the full name of the individual, Social Security Number, current address and telephone number. For personal visits, acceptable identification must be provided such as a driver's license or DoD building pass.

CONTESTING RECORD PROCEDURES:

The OSD rules for accessing records, for contesting contents and appealing initial agency determinations are published in OSD Administrative Instruction 81; 32 CFR part 311; or may be obtained from the system manager.

RECORD SOURCE CATEGORIES:

Applications submitted by individuals for private vehicle and carpool parking permits and transit subsidies; applications submitted through DoD component parking control representatives for individual parking permits for cards; information provided by other federal agencies regarding parking permits and fare subsidies; and from periodic certifications and reports regarding fare subsidies.

EXEMPTIONS CLAIMED FOR THE SYSTEM:

None.

[FR Doc. 00-22082 Filed 8-29-00; 8:45 am]

BILLING CODE 5001-10-M